DEPARTMENT OF THE TREASURY

Submission for OMB Review; Comment Requests

ACTION: Notice and request for comments.

SUMMARY: The Department of the Treasury will submit the following information collection request to the Office of Management and Budget (OMB) for review and clearance in accordance with the Paperwork Reduction Act of 1995, Public Law 104-13, on or after the date of publication of this notice.

DATES: Written comments must be received on or before June 18, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave., NW., Suite 11020, Washington, DC 20220, or on-line at http://www.PRAComment.gov.

FOR FURTHER INFORMATION CONTACT: Copies of the submission(s) may be obtained by calling (202) 927-5331, email at PRA@treasury.gov, or the entire information collection request may be found at http://www.reginfo.gov.

SUPPLEMENTARY INFORMATION: Title: SSBCI Allocation Agreement for Participating States.

OMB Control Number: 1505-0227.

Abstract: The SSBCI Allocation Agreement for States, which is required by Title III of the Small Business Jobs Act of 2010 (Pub. L. 111-240, “the Act”), will memorialize the terms and conditions for funds made available to participating states under the SSBCI. Among other duties, included in the terms of this agreement is the requirement that all Participating States submit quarterly and annual reporting to Treasury which details the use of funds under the program. This information is necessary in order to comply with reporting requirements established by the Act.

The SSBCI Allocation Agreement for Participating Municipalities is a modified version of the SSBCI Allocation Agreement for Participating States that contains additional specific provisions for municipalities participating in the SSBCI, principally: (a) A requirement that municipal applicants applying jointly for SSBCI funds shall document and provide to Treasury a copy of a cooperative agreement that details the roles and responsibilities among each municipality as a condition of closing; and (b) a requirement that, for any loans or investments made outside of the geographic borders of a Participating Municipality, that Participating Municipality shall warrant in writing that such a transaction will result in significant economic benefit to that municipality.

The SSBCI Application form will collect information from Participating States, territories, or municipalities that wish to request an amendment to their existing approved SSBCI Application throughout the term of the Allocation Agreement. This form will collect the following: (a) Information about proposed changes to the apportionment of SSBCI funds among programs; (b) program design information for proposed new programs; or, (c) proposed material changes to the design of programs. Only those participating states, territories, or municipalities that elect to request a modification to their original SSBCI Application will be required to complete this form.

The SSBCI Technical Assistance Quarterly Review collection is a voluntary collection from Participating States, territories, and municipalities that will be conducted telephonically on a quarterly basis and will not require a written submission to Treasury.

The SSBCI Technical Assistance Quarterly Review will collect the following: (a) Qualitative data related to program performance; (b) an assessment of program implementation status to date; and (c) an assessment any future challenges to program performance. This data will be used by Treasury to determine the types and methods through which to offer technical assistance to participants in order to assist states with meeting the program performance goals of achieving the private leverage expectations of the SSBCI.

Type of Review: Extension of a currently approved collection.

Affected Public: States, territories, the District of Columbia and municipalities that were approved by Treasury to participate in the SSBCI.

SSBCI Quarterly and Annual Reporting Requirements

Estimated Number of Respondents: 62.

Estimated Average Time per Respondent: Approximately ten (10) hours per respondent per year. The estimated average time per respondent for the quarterly report is one (1) hour per report for a total of four (4) hours per year. The estimated average time per respondent for the annual report ranges from two (2) hours per year to approximately nineteen (19) hours per year depending on the use of electronic reporting mechanisms. The weighted average time per respondent for the annual report is 6.36 hours per year. The total estimated annual burden for this collection is 642 hours per year.

SSBCI Allocation Agreement for Participating Municipalities

Estimated Number of Respondents: 5.

Estimated Average Time per Respondent: SSBCI anticipates that 3 applicants will require a cooperative agreement. The estimate time to complete this document is 40 hours per agreement, for a net, one-time total of 120 hours. Municipalities that have applied for the SSBCI program anticipate a total of 195 loan or investment transactions per year. SSBCI estimates that approximately 20% of these transactions may occur outside of the boundaries of applicant municipalities and that for each applicable transaction, the warranty will take approximately 1 hour to complete. Therefore, the estimated annual burden associated with warrants will take 39 hours.

SSBCI Application Form

Estimated Number of Respondents: 15 per year.

Estimated Average Time per Respondent: The estimated average time per respondent to complete the sections of the application form that document program design is approximately nine (9) hours per respondent per year. SSBCI estimates that approximately 15 respondents will elect to request a modification each year for a total estimated annual burden of 135 hours per year.

SSBCI Technical Assistance Quarterly Review

Estimated Number of Respondents: 62.

Estimated Average Time per Respondent: Approximately four (4) hours per respondent per year. The estimated average time per respondent for the quarterly review is one (1) hour telephone call conducted a total of four (4) hours per year. The estimated total annual burden is 248 hours per year.

SSBCI Compliance Guidance

Estimated Number of Respondents: 62.

Estimated Average Time per Respondent: Approximately one (1) hour per respondent per year to collect suggested disclosures, approximately four (4) hours per respondent per year to maintain suggested records, and approximately one-quarter (0.25) of an hour per respondent per year to optionally submit an annual audit of state program financials to SSBCI. All information collections and estimated burdens are optional for all respondents. The estimated total annual burden is 326 hours per year.

Estimated Total Annual Burden Hours for all Collections: 1,390 hours, plus a one-time total burden of 135 hours for municipalities that apply jointly.

Robert Dahl,
Treasury PRA Clearance Officer.

[FR Doc. 2012-12026 Filed 5-17-12; 8:45 am]

BILLING CODE 4810-25-P